SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Application for Lump Sum Death Payment—0960-0013. The information collected on form SSA-8 by the Social Security Administration is required to authorize payment of a lump-sum death benefit to a widow, widower, or children as defined in Section 202(i) of the Social Security Act. The respondents are widows, widowers or children who apply for a lump-sum death payment.

Number of respondents | 43,850
Frequency of response | 1
Average burden per response | 10 mins.
Estimated annual burden | 7308 hrs.

2. Application for Special Age 72-or-Over Monthly Payments—0960-0096. Form SSA-19-F6 is needed by the Social Security Administration (SSA) to determine whether an individual is entitled to Special Age-72 payments. Eligibility requirements will be evaluated by the data collected on this form. The respondents are individuals who attained age 72 before 1972.

Number of respondents | 10
Frequency of response | 1
Average burden per response | 20 mins.
Estimated annual burden | 3 hrs.

3. Request for Self-Employment Information, Request for Employee Information, Request for Employer Information_0960-0508. SSA needs the information collected on Forms SSA-L2765, SSA-L3365 and SSA-L4002 in order to credit the reported earnings to the proper earnings record. When W-2 wage data for an individual cannot be identified, the data are placed in the earnings suspense file, and SSA sends decentralized correspondence (DECOR) to the employee (in certain instances to the employer) in an attempt to obtain his/her correct name and SSN. The respondents are employees, employers or self-employed individuals being requested to furnish additional information for individuals for whom earnings were reported.

Number of respondents | 3,000,000
Frequency of response | 1
Average burden per response | 10 mins.
Estimated annual burden | 500,000 hrs.

4. State Agency Report of Obligations for SSA Disability Programs_0960-0421. The data collected on Form SSA-4513 are necessary for detailed analysis and evolution of costs incurred by Disability Determination Services (DDS) in making disability determinations for SSA. The data collected also help to determine funding levels for each DDS. The respondents are DDSs, which are the State agencies that have the responsibility for making disability determinations for SSA.

Number of respondents | 54
Frequency of response | 4
Average burden per response | 60 mins
Estimated annual burden | 216 hrs

5. Statement For Determining Continuing Eligibility or Supplemental Security Income Payments—0960-0416. Form SSA-8203-BK (printed in both English and Spanish) is used by SSA for high-error-profile (HEP) redeterminations. It is completed in field offices by personal contact (face-to-face or telephone interview) and is not supposed to be mailed to recipients to be completed and returned. The form is used only when a systems limitation prevents the interview from being conducted using the automated Modernized SSI Claim System. A tear-off sheet (Pages 7 and 8 of the form) is given to recipients at the conclusion of a face-to-face interview or is mailed to recipients at the completion of the telephone interview. The tear-off includes information about how, what, when, where, and why Supplemental Security Income (SSI) recipients report when there is a change in income, resources, or living arrangements. The respondents are recipients of title XVI SSI benefits.

Number of respondents | 920,000
Frequency of response | 1
Average burden per response | 17 mins
Estimated annual burden | 260,667 hrs

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Supplement to Claim of Person Outside the United States—0960-0051. The information collected on Form SSA-21 is used by the Social Security Administration (SSA) to determine continuing entitlement to Social Security benefits and the proper benefit amounts of alien beneficiaries living outside the United States (U.S.). It is also used to determine whether benefits are subject to withholding tax. The respondents are comprised of individuals entitled to Social Security benefits, who are, will be, or have been residing outside the U.S.

Number of respondents | 35,000
Frequency of response | 1
Average burden per response | 5 mins
Estimated annual burden | 2,917 hrs

2. Statement of Care and Responsibility for Beneficiary—0960-0109. SSA uses Form SSA-788 to select the most qualified representative payee who will apply the benefits in the beneficiary's best interests. The respondents are individuals who have custody of a beneficiary where someone else has filed to be the beneficiary's payee.

Number of respondents | 130,000
Frequency of response | 1
Average burden per response | 10 mins
Estimated annual burden | 21,667 hrs

(SSA Address)_Social Security Administration, DCFAM, Attn: Frederick W. Brickenkamp, 6401 Security Blvd., 1-A-21 Operations Bldg., Baltimore, MD 21235.

(OMB Address)_Office of Management and Budget, OIRA, Attn: Desk Officer for SSA, New Executive Office Building, Room 10230, 725 17th St., NW, Washington, DC 20503.

Dated: June 23, 2000.
Frederick W. Brickenkamp,
Reports Clearance Officer, Social Security Administration.

[FR Doc. 00-16407 Filed 6-28-00; 8:45 am]

BILLING CODE 4191-02-P